POSTAL SERVICE

Sunshine Act Meeting; Temporary Emergency Committee of the Board of Governors

DATES AND TIMES: June 22, 2015, at 1:30 p.m., and June 23, 2015, at 8:30 a.m.

PLACE: Washington, DC.

STATUS: Closed.

MATTERS TO BE CONSIDERED:

Monday, June 22, 2015, at 1:30 p.m.

1. Strategic Issues.

Tuesday, June 23, 2015, at 8:30 a.m.

1. Compensation Issues.

2. Financial Matters.

3. Pricing.

4. Governors' Executive Session—Discussion of prior agenda items and Board governance.

GENERAL COUNSEL CERTIFICATION: The General Counsel of the United States Postal Service has certified that the meeting may be closed under the Government in the Sunshine Act.

CONTACT PERSON FOR MORE INFORMATION: Requests for information about the meeting should be addressed to the Secretary of the Board, Julie S. Moore, at 202-268-4800.

Julie S. Moore.
Secretary, Board of Governors.

[FR Doc. 2015-14240 Filed 6-8-15; 11:15 am]

BILLING CODE 7710-12-P